DEPARTMENT OF DEFENSE

Office of the Secretary

[Docket ID DOD-2019-OS-0117]

Proposed Collection; Comment Request

AGENCY: Defense Acquisition University, DoD.

ACTION: Information collection notice.

SUMMARY: In compliance with the Paperwork Reduction Act of 1995, the Defense Acquisition University announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 9, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Information Management Control Officer (Chris Johnson), Office of the Chief Information Officer, Defense Acquisition University, 9820 Belvoir Road, Ft. Belvoir, VA or call (703) 805-4854.

SUPPLEMENTARY INFORMATION:

Title; Associated Form; and OMB Number: Defense Acquisition University, Data Services Management; OMB Control Number 0704-XXXX.

Needs and Uses: The information collection requirement is necessary to permit an individual to register for access to a DAU training, knowledge sharing and collaboration systems. The information is used to evaluate the individual's eligibility for access to DAU training, knowledge sharing and collaboration systems and to notify the individual of approval or disapproval of the request. It also provides administrative and academic capabilities and functions related to student registrations, account requests, courses attempted and completed, graduation notifications to DoD training systems.

Affected Public: Individuals or Households.

Annual Burden Hours: 833.

Number of Respondents: 10,000.

Responses per Respondent: 1.

Annual Responses: 10,000.

Average Burden per Response: 5 minutes.

Frequency: On occasion.

Dated: October 4, 2019.
Aaron T. Siegel,
Alternate OSD Federal Register Liaison Officer, Department of Defense.

[FR Doc. 2019-22127 Filed 10-9-19; 8:45 am]

BILLING CODE 5001-06-P